DEPARTMENT OF HOMELAND SECURITY

Coast Guard

33 CFR Part 165

[Docket No. USCG-2015-0067]

Annual Safety Zones in the Eighth Coast Guard District

AGENCY: Coast Guard, DHS.

ACTION: Notice of enforcement of regulation.

SUMMARY: The Coast Guard will enforce the RiverFest fireworks safety zone on the Neches River in Port Neches, TX from 8:30 p.m. until 9:30 p.m. on May 2, 2015. This action is necessary to protect persons from the hazards associated with a fireworks display. During the enforcement period no person or vessel may enter the safety zone without the permission of the Captain of the Port (COTP) Port Arthur or his designated on-scene Patrol Commander.

DATES: The regulations in 33 CFR 165.801, Table 3, number 1 will be enforced from 8:30 p.m. to 9:30 p.m. on May 2, 2015.

FOR FURTHER INFORMATION CONTACT: If you have questions on this notice of enforcement, call or email Mr. Scott Whalen, U.S. Coast Guard Marine Safety Unit Port Arthur, TX; telephone 409-719-5086, email scott.k.whalen@uscg.mil.

SUPPLEMENTARY INFORMATION: The Coast Guard will enforce a 500-yard safety zone for the RiverFest fireworks display in 33 CFR 165.801, Table 3, number 1 from 8:30 p.m. to 9:30 p.m. on May 2, 2015. While the location of the display is in the same general area as currently listed in 33 CFR 165.801, for this year only the fireworks display will be set off from land located along the Neches River near the approximate position of 30°00′05.6″ N 093°57′25.75″ W (NAD 83).

Under the provisions of 33 CFR 165.801, a vessel may not enter the regulated area, unless it receives permission from the Captain of the Port or his designated on-scene Patrol Commander. Spectator vessels may safely transit outside the regulated area but may not anchor, block, loiter, or impede participants or official patrol vessels. The Coast Guard may be assisted by other federal, state or local law enforcement agencies in enforcing this regulation.

This notice is issued under authority of 33 CFR 165.801 and 5 U.S.C. 552(a). In addition to this notice in the Federal Register, the Coast Guard will provide the maritime community with notification of this enforcement period via Local Notice to Mariners, Safety Marine Information Broadcasts, and Marine Safety Information Bulletins.

If the Captain of the Port or his designated on-scene Patrol Commander determines that the regulated area need not be enforced for the full duration stated in this notice, he or she may use a Broadcast Notice to Mariners to grant general permission to enter the regulated area.

Dated: March 12, 2015.
R.S. Ogrydziak,
Captain, U.S. Coast Guard, Captain of the Port, Port Arthur.

[FR Doc. 2015-07140 Filed 3-26-15; 8:45 am]

BILLING CODE 9110-04-P